RAILROAD RETIREMENT BOARD

Proposed Collection; Comment Request

SUMMARY: In accordance with the requirement of section 3506(c)(2)(A) of the Paperwork Reduction Act of 1995 which provides opportunity for public comment on new or revised data collection, the Railroad Retirement Board (RRB) will publish periodic summaries of proposed data collections.

Comments are invited on: (a) Whether the proposed information collection is necessary for the proper performance of the functions of the agency, including whether the information has practical utility; (b) the accuracy of the RRB's estimate of the burden of the collection of the information; (c) ways to enhance the quality, utility, and clarity of the information to be collected; and (d) ways to minimize the burden related to the collection of information on respondents, including the use of automated collection techniques or other forms of information technology.

Title and Purpose Information Collection

Application for Employee Annuity Under the Railroad Retirement Act; OMB 3220-0002 section 2 of the Railroad Retirement Act (RRA), provides for payment of age and service, disability and supplemental annuities to qualified employees. The basic requirement for a regular employee annuity retirement annuity under the RRA is 120 months (10 years) of creditable railroad service. Benefits then become payable after the employee meets certain other requirements, which depend, in turn, on the type of annuity payable. The requirements relating to the annuities are prescribed in 20 CFR 216, and 220.

The RRB currently uses the electronic AA-1cert, Application Summary and Certification process and the following forms to collect the information needed for determining entitlement to and the amount of, an employee retirement annuity: Form AA-1, Application for Employee annuity Under the Railroad Retirement Act, Form AA-1d, Application for Determination of Employee Disability, and Form G-204, Verification of Workers Compensation/Public Disability Benefit Information.

The AA-1cert process obtains information from an applicant for either an age and service, or disability annuity by means of an interview with an RRB field-office representative. It obtains information about an applicant's marital history, work history, military service, benefits from other governmental agencies and railroad pensions. During the interview, the field-office representative enters the information obtained into an online information system. Upon completion of the interview, the applicant receives Form AA-1cert, Application Summary and Certification, which summarizes the information that war provided by/or verified by the applicant, for review and signature. The RRB also uses a manual version, RRB Form AA-1, in instances where the RRB representative is unable to contact the applicant in-person or by telephone i.e., the applicant lives in another country.

Form AA-1d, Application for Determination of Employee Disability, is completed by an employee who is filing for a disability annuity under the RRA, or a disability freeze under the Social Security Act for early Medicare based on a disability. Form G-204, Verification of Workers Compensation/Public Disability Benefit Information, is used to obtain and verify information concerning worker's compensation or public disability benefits that are or will be paid by a public agency to a disabled railroad employee.

The RRB estimates the burden for the collection as follows:

Estimated burden
Form # | Estimated annual responses | Estimated completion time (per response) | Estimated annual burden hours (hours)
AA-1cert (with assistance) | 13,300 | 30 | 6,650
AA-1 manual (without assistance) | 100 | 62 | 103
AA-1d (manual without assistance) | 50 | 60 | 50
AA-1d (manual) (with assistance) | 5,600 | 35 | 3,296
G-204 | 50 | 15 | 13
Total | 19,100 |  | 10,112

The RRB proposes no changes to Form AA-1cert, AA-1 and G-204. Minor non-burden impacting, editorial and formatting changes are proposed to Form AA-1d. Completion of an application is required to obtain a benefit. One response is requested of each respondent.

Additional Information or Comments: To request more information or to obtain a copy of the information collection justification, forms,. and/or supporting material, please call the RRB Clearance Officer at (312) 751-3363. Comments regarding the information collection should be addressed to Ronald J. Hodapp, Railroad Retirement Board, 844 N. Rush Street, Chicago, Illinois 60611-2092. Written comments should be received within 60 days of this notice.

Chuck Mierzwa,
Clearance Officer.

[FR Doc. 03-7307 Filed 3-26-03; 8:45 am]

BILLING CODE 7905-01-M